DEPARTMENT OF HEALTH AND HUMAN SERVICES

Centers for Disease Control and Prevention

[Program Announcement 04130]

National Organizations for Nutrition and Physical Activity Programs; Notice of Intent To Fund Single Eligibility Award

A. Purpose

The Centers for Disease Control and Prevention (CDC) announces the intent to fund fiscal year (FY) 2004 funds for a cooperative agreement program to enhance nutrition, 5 a day, and physical activity efforts by:

• Providing annual training opportunities and professional development.

• Coordinating training activities and programs between health departments that have nutrition and physical activity components and the State Nutrition and Physical Activity Programs to Prevent Obesity and Chronic Diseases.

• Establishing a National 5 A Day Council to provide leadership on policies and programs to increase fruit and vegetable consumption.

• Conducting State or community-based special projects. The Catalog of Federal Domestic Assistance number for this program is 93.945.

B. Eligible Applicant

Assistance will be provided only to the Association of State and Territorial Public Health Nutrition Directors (ASTPHND). No other applications are solicited.

ASTPHND is the only organization with State nutrition directors or designees and nutrition-related staff uniquely positioned in State health departments to provide statewide leadership for nutrition, 5 A Day, physical activity, and obesity and chronic disease prevention efforts. ASTPHND's members direct the nutrition and 5 A Day programs in the State health departments or public health agencies of fifty States, the District of Columbia, and five Territories. ASTPHND has established a unique network of public health nutritionists working to improve the health of the American population through statewide and local community efforts. The group is committed to addressing nutrition and physical activity related to the prevention of obesity. ASTPHND has experience conducting training and professional development related to nutrition, 5 A Day, and physical activity.

ASTPHND the only national organization representing 5 A Day Coordinators from each State, district, and territory. ASTPHND is the only organization positioned to provide training and promote the translation of public health nutrition research to practice that is critical to CDC efforts to build State capacity to implement effective nutrition programs. All State nutrition directors and 5 A Day coordinators are members of ASTPHND, therefore it is the only national organization with a membership representing State nutrition directors and 5 A Day coordinators from all 50 States, the District of Columbia, and five territories.

C. Funding

Approximately $200,000 is available in FY 2004 to fund this award. It is expected that the award will begin on or before September 1, 2004, and will be made for a 12-month budget period within a project period of up to 5 years. Funding estimates may change.

D. Where To Obtain Additional Information

For general comments or questions about this announcement, contact: Technical Information Management, CDC Procurement and Grants Office, 2920 Brandywine Road, Atlanta, GA 30341-4146. Telephone: 770-488-2700.

For technical questions about this program, contact: Diane Thompson, M.P.H., RD, Project Officer, Division of Nutrition and Physical Activity, National Center for Chronic Disease Prevention and Health Promotion, Centers for Disease Control and Prevention, 4770 Buford Highway, NE., MS K-25, Atlanta, GA 30341.

Dated: May 19, 2004.
William P. Nichols,
Acting Director, Procurement and Grants Office, Centers for Disease Control and Prevention.

[FR Doc. 04-11754 Filed 5-24-04; 8:45 am]

BILLING CODE 4163-18-P